DEPARTMENT OF THE INTERIOR

Office of the Secretary

[167D0102DM DS61100000 DLSN00000.000000 DX61101]

Draft 2016-2020 Environmental Justice Strategic Plan

AGENCY: Office of the Secretary, Interior.

ACTION: Notice of availability and request for comments.

SUMMARY: This notice announces the availability of the Department of the Interior's (Department) draft 2016-2020 Environmental Justice Strategic Plan (Strategic Plan). This draft Strategic Plan builds on the Department's 2012-2017 Environmental Justice Strategic Plan and will guide the Department's actions regarding environmental justice for the upcoming years. Updates to Federal agencies' environmental justice strategic plans are conducted periodically to increase interagency cooperation and participation opportunities for minority, low-income, American Indian and Alaska Native Communities, and Tribal governments.

DATES: Consideration will be given to all comments received or postmarked by May 16, 2016.

ADDRESSES: You may submit written comments by one of the following methods:

1. By email to: Environmental_Justice@ios.doi.gov.

2. By hard-copy to: Environmental Justice, U.S. Department of the Interior, Office of Environmental Policy and Compliance (MS-2462), 1849 C Street NW., Washington, DC 20240

FOR FURTHER INFORMATION CONTACT: Ms. Cheryl L. Kelly at the above street address (see ADDRESSES), phone 202-208-7565, or by email at cheryl_kelly@ios.doi.gov.

SUPPLEMENTARY INFORMATION:

I. Background

In 1994, President Clinton signed Executive Order 12898, Federal Actions to Address Environmental Justice in Minority Populations and Low-income Populations, which outlined a mandate for Federal agencies to “make achieving environmental justice part of its mission by identifying and addressing, as appropriate, disproportionately high and adverse human health or environmental effects of its programs, policies, and activities on minority populations and low-income populations in the United States and its territories and possessions, the District of Columbia, the Commonwealth of Puerto Rico, and the Commonwealth of the Mariana Islands.” Environmental justice is often defined as meeting the needs of underserved communities by reducing disparate environmental burdens, removing barriers to participation in decision making, and increasing access to environmental benefits that help make all communities safe, vibrant, and healthy places to live and work.

In August 2011, the Department joined with other Federal agencies in the signing of a Memorandum of Understanding on Environmental Justice and Executive Order 12898 (MOU). This MOU reaffirmed the Federal government's commitment to environmental justice. Provisions of the MOU call on each Federal agency to review and update existing environmental justice strategic plans where applicable and as appropriate. At that time, the Department published a 2012-2017 Environmental Strategic Plan to meet this provision to update Federal agency strategic plans.

The Department's 2012-2017 Environmental Justice Strategic Plan set forth five major goals that continue to guide the Department in its pursuit of environmental justice:

(1) Ensure responsible officials are aware of the provisions of EO 12898 and are able to identify and amend programs, policies, and activities under their purview that may have disproportionately high and adverse human health or environmental effects on minority, low-income, or tribal populations;

(2) Ensure minority, low-income, and tribal populations are provided with the opportunity to engage in meaningful involvement in the Department's decision making processes;

(3) The Department will, on its own or in collaboration with partners, identify and address environmental impacts that may result in disproportionately high and adverse human health or environmental effects on minority, low-income, or tribal populations;

(4) Use existing grant programs, training, and educational opportunities as available to aid and empower minority, low-income, and tribal populations in their efforts to build and sustain environmentally and economically sound communities; and

(5) Integrate the Department's environmental justice strategies with its Title VI of the Civil Rights Act enforcement responsibilities to improve efficiencies while preserving the integrity of Title VI and environmental justice activities.

In 2015, the Department began the process to update the Department's 2012-2017 Environmental Justice Strategic Plan by evaluating actions the Department could implement to meet the five goals. The update to the strategic plan is based on input and review by the Department's bureaus and offices and meets the goal of the 2011 MOU to periodically evaluate and update strategic plans.

II. General Information

You may access the Department's draft 2016-2020 Environmental Justice Strategic Plan at the Department's Environmental Justice Web site at: https://www.doi.gov/oepc/resources/environmental-justice. Please let us know if you are unable to access the document through the Web site; the document can be provided via email or hard copy.

It is our policy to make all comments available to the public for review. Before including Personally Identifiable Information (PII), such as your address, phone number, email address, or other personal information in your comment(s), you should be aware that your entire comment (including PII) might be made available to the public at any time. While you might ask us in your comment to withhold PII from public view, we cannot guarantee that we will be able to do so.

Mary Josie Blanchard,
Acting Director, Office of Environmental Policy and Compliance.

[FR Doc. 2016-08671 Filed 4-14-16; 8:45 am]

BILLING CODE 4334-63-P